DEPARTMENT OF VETERANS AFFAIRS

Programmatic Consideration of Historic Properties in Transfer of Property Rights of Vacant and Underutilized Buildings, Structures and Land

AGENCY: Department of Veterans Affairs.

ACTION: Notice of availability and request for comment.

SUMMARY: The Department of Veterans Affairs (VA) is reviewing its capital asset inventory and identifying vacant and underutilized buildings, structures and land. VA may consider sales, public benefit conveyances, demolition and deconstruction to reduce its unneeded real property. Additionally, VA may consider leases and exchanges to non-Federal entities for potential reuse of vacant and underutilized buildings and structures. This announcement pertains to an alternative process VA may utilize to comply with the requirements of the National Historic Preservation Act (NHPA).

The Advisory Council on Historic Preservation (ACHP) is a Federal agency tasked with review of other Federal agencies' compliance with NHPA and the implementing regulations. VA intends to request ACHP to consider a Program Comment for the entire program of reduction of vacant and underutilized properties. ACHP may agree or decline to consider VA's Program Comment request. If ACHP does issue a Program Comment in lieu of case-by-case review, this alternative will conserve VA's time, budget and staff resources. It will enable VA to transfer real property rights of the vacant and underutilized properties more quickly while still giving consideration to historic properties as required by NHPA.

This Notice of Availability announces and invites public involvement in the process of development of the Program Comment for consideration of historic properties that are vacant and underutilized buildings, structures and land that may be historic properties. Historic properties are those listed on the National Register of Historic Places or eligible for such listing.

DATES: Comments should be submitted within 30 days from when this announcement is published in the Federal Register.

ADDRESSES: Written comments may be submitted by email through http://www.regulations.gov. Comments should indicate that they are submitted in response to “Notice of availability and request for comments—Programmatic Consideration of Historic Properties in Transfer of Property Rights of Vacant and Underutilized Buildings, Structures and Land.” During the comment period, comments may be viewed online through the Federal Docket Management System at http://www.regulations.gov.

FOR FURTHER INFORMATION CONTACT: Douglas Pulak, Federal Preservation Officer (003C2), Department of Veterans Affairs, 810 Vermont Avenue NW, Washington, DC 20420.

SUPPLEMENTARY INFORMATION: Section 106 of the National Historic Preservation Act (54 U.S.C. 306108) requires Federal agencies to take into account the effects of their undertakings on historic properties and provide ACHP a reasonable opportunity to comment with regard to such undertakings. ACHP regulations, codified at 36 CFR part 800, set forth the process by which Federal agencies comply with NHPA requirements.

Under Section 800.14(e), Federal agencies may request ACHP to provide a Program Comment on a particular program and category of undertakings in lieu of conducting individual reviews of each individual undertaking as set forth in 36 CFR Sections 800.4 through 800.6. A Federal agency can meet its Section 106 responsibilities for a category of undertakings by taking into account ACHP's Program Comment and by following the steps set forth in those comments.

To initiate this process, VA intends to request ACHP to consider a Program Comment for its program to reduce its real property inventory of vacant and underutilized properties at VA Medical Centers and National Cemeteries nationwide. VA intends the program comment to ACHP will encompass a variety of real estate actions such as leases (including both Enhanced-Use Leases under VA's authority at 38 U.S.C. 8161-8169, and NHPA Section 111 leases authorized under 16 U.S.C. 470h-3), exchanges, sales, transfers, deconstruction and demolition of buildings and structures. ACHP will decide whether to issue a Program Comment to VA or decline. If ACHP decides to issue the Program Comment, they will publish a draft in the Federal Register for public review and comment. Following consideration of such comments by ACHP and VA, the final Program Comment will be published in the Federal Register.

VA initiated the identification of historic properties in its capital asset inventory several decades ago. VA identified, in consultation with State Historic Preservation Offices, approximately 65 percent of the medical centers as having some buildings and structures, or districts eligible or listed on the National Register of Historic Places. All of the National Veterans Cemeteries are listed on the National Register. The development of VA and its historic role in the care and treatment of veterans over time is significant in the history of the United States.

The analysis of buildings and structures that are no longer needed or cannot be adapted for current use will aid VA in reducing its real property inventory. Many buildings and structures are not useful for VA's mission. In general, they tend to be warehouses, garages, sheds, animal research structures, and other utilitarian buildings. Most of these types of buildings and structures are not eligible or contributing to a historic district. VA intends to propose deconstruction or demolition of these properties without further consideration under the Program Comment.

For buildings, structures and land that may serve other non-Federal entities purpose, VA may be able to out lease them. The leases would contain specific requirements for treatment of the character defining features of the historic property if the lessee is pursuing tax credits for rehabilitation of the historic property. For all other leases of historic properties, the reuse proposal would be evaluated with the lessee for potential retention of any character defining features such as windows, entry spaces, staircases and historic landscaping. If it is not possible to retain significant historic features of a building or structure, they will be documented prior to removal or alteration.

Signing Authority

The Secretary of Veterans Affairs, or designee, approved this document and authorized the undersigned to sign and submit the document to the Office of the Federal Register for publication electronically as an official document of the Department of Veterans Affairs. Jacquelyn Hayes-Byrd, Deputy Chief of Staff, Department of Veterans Affairs, approved this document on April 11, 2018, for publication.

Dated: April 11, 2018.
Jeffrey M. Martin,
Impact Analyst, Office of Regulation Policy & Management, Office of the Secretary, Department of Veterans Affairs.

[FR Doc. 2018-07958 Filed 4-16-18; 8:45 am]

BILLING CODE 8320-01-P